NUCLEAR REGULATORY COMMISSION

[Docket Nos. 72-1025 and 50-029; NRC-2020-0152]

Independent Spent Fuel Storage Installation; Yankee Atomic Electric Company

AGENCY: Nuclear Regulatory Commission.

ACTION: Exemption; issuance.

SUMMARY: The U.S. Nuclear Regulatory Commission (NRC) is issuing an exemption, in response to an May 2, 2019, request from Yankee Atomic Electric Company (YAEC or licensee), from NRC's requirement to comply with the terms, conditions, and specifications in Amendment No. 8 of the NAC International, Inc. (NAC)—Multi-Purpose Canister (MPC) System Certificate of Compliance (CoC) No. 1025, Appendix A “Technical Specifications for NAC-MPC System,” Technical Specifications (TS) A.5.1 “Training Program” and A.5.4 “Radioactive Effluent Control Program” at the Yankee Nuclear Power Station (YNPS) independent spent fuel storage installation (ISFSI) in Rowe, Massachusetts. These exemptions would relieve YAEC from the requirements to: Develop training modules under the systems approach to the training (SAT) program that include comprehensive instructions for the operation and maintenance of the ISFSI, except for the NAC-MPC System; and submit an annual report specifying the quantity of each of the principal radionuclides released to the environment in liquid and in gaseous effluents during the previous 12 months of operation.

DATES: This exemption takes effect on July 8, 2020.

ADDRESSES: Please refer to Docket ID NRC-2020-0152 when contacting the NRC about the availability of information regarding this document. You may obtain publicly-available information related to this document using any of the following methods:

• Federal Rulemaking website: Go to https://www.regulations.gov/ and search for Docket ID NRC-2020-0152. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

FOR FURTHER INFORMATION CONTACT: Nishka Devaser, Office of Nuclear Material Safety and Safeguards, U.S. Nuclear Regulatory Commission, Washington, DC 20555-0001; telephone: 301-415-5196; email: Nishka.Devaser@nrc.gov.

SUPPLEMENTARY INFORMATION:

I. Background

The licensee, YAEC, is the holder of Facility Operating License No. DPR-3, which authorizes operation of the YNPS ISFSI in Rowe, Massachusetts, pursuant to part 50 of title 10 of the Code of Federal Regulations (10 CFR). The facility is in decommissioned status. The license provides, among other things, that the facility is subject to all rules, regulations, and orders of the NRC now or hereafter in effect.

Under subpart K of 10 CFR part 72, a general license has been issued for the storage of spent fuel in an ISFSI at power reactor sites to persons authorized to possess or operate nuclear power reactors under 10 CFR part 50. Under the terms of the general license, YAEC stores fifteen NAC-MPC canisters with spent fuel that are registered under Amendment No. 5 of the NAC-MPC CoC No. 1025. On February 5, 2019, the NRC issued Amendment Nos. 7 and 8 to CoC No. 1025 for the NAC-MPC System.

II. Request/Action

The licensee has requested an exemption from Amendment No. 8 to the NAC-MPC System CoC No. 1025, Appendix A, TS A.5.1 “Training Program” and from TS A.5.4 “Radioactive Effluent Control Program.” YAEC seeks an exemption from (1) the requirement to develop a SAT that includes comprehensive instructions for the operation and maintenance of the ISFSI and (2) the requirement to submit an annual report specifying the quantity of each of the principal radionuclides released to the environment in liquid and in gaseous effluents during the previous 12 months of operation. YAEC does not seek an exemption from the requirement to develop a SAT concerning the NAC-MPC system nor does it seek exemption from the requirements associated with the NAC-MPC effluent reporting program. YAEC has also requested an exemption from the requirements of § 72.212(a)(2), § 72.212(b)(3), § 72.212(b)(5)(i), § 72.212(b)(11), and § 72.214 that require compliance with the terms, conditions, and specifications of CoC No. 1025, Amendment No. 8.

• § 72.212(a)(2) states that the general license is limited to storage of spent fuel in casks approved under the provisions of 10 CFR part 72;

• § 72.212(b)(3) states that the general licensee must ensure that each cask used by the general licensee conforms to the terms, conditions, and specifications of a CoC or an amended CoC listed in § 72.214 (the NAC-MPC CoC No. 1025 is listed in § 72.214);

• § 72.212(b)(5)(i) requires that the general licensee perform written evaluations, before use and before applying the changes authorized by an amended CoC to a cask loaded under the initial CoC or an earlier amended CoC, which establish that the casks, once loaded with spent fuel or once the changes authorized by an amended CoC have been applied, will conform to the terms, conditions, and specifications of a CoC or an amended CoC listed in § 72.214;

• § 72.212(b)(11) states, in part, that the licensee shall comply with the terms, conditions, and specifications of the CoC and, for those casks to which the licensee has applied the changes of an amended CoC, the terms, conditions, and specifications of the amended CoC; and

• § 72.214 lists the approved spent fuel storage casks, which includes CoC No. 1025 and Amendment No. 8.

The NRC has previously granted the same exemption to YAEC from the requirements of CoC No. 1025, Amendment No. 4, dated June 6, 2006 (ADAMS Accession No. ML061570027) and CoC No. 1025, Amendment No. 5, dated July 15, 2010 (ADAMS Accession No. ML102020239).

III. Discussion

Pursuant to § 72.7, the Commission may, upon application by any interested person or upon its own initiative, grant such exemptions from the requirements of the regulations of 10 CFR part 72 provided the exemptions are authorized by law and will not endanger life or property or the common defense and security and are otherwise in the public interest.

A. The Exemption Is Authorized by Law

This exemption would permit the registration of YAEC's fifteen NAC-MPC canisters storing spent nuclear fuel to Amendment No. 8 of the CoC No. 1025 for the NAC-MPC System without (1) requiring the licensee to develop training modules under its SAT that includes comprehensive instructions for the operation and maintenance of the ISFSI, except for the NAC-MPC System and (2) requiring the licensee to submit an annual report specifying the quantity of each of the principal radionuclides released to the environment in liquid and in gaseous effluents during the previous 12 months of operation, except for the NAC-MPC System.

The provisions in 10 CFR part 72 from which the licensee is requesting an exemption require the licensee to comply with the terms, conditions, and specifications of the CoC. Section 72.7 allows the NRC to grant exemptions from the requirements of 10 CFR part 72. As explained below, the proposed exemption will not endanger life or property, or the common defense and security, and is otherwise in the public interest. Issuance of this exemption is consistent with the Atomic Energy Act of 1954, as amended, and not otherwise inconsistent with NRC's regulations or other applicable laws. Therefore, the exemption is authorized by law.

B. The Exemption Is Will Not Endanger Life or Property or the Common Defense and Security

This exemption would relieve the licensee from (1) meeting Appendix A “Technical Specifications for NAC-MPC System,” TS A.5.1 “Training Program,” which requires the development of training modules under its SAT that include comprehensive instructions for the operation and maintenance of the ISFSI, except for the NAC-MPC System and (2) meeting Appendix A “Technical Specifications for NAC-MPC System,” TS A.5.4 “Radioactive Effluent Control Program,” which requires submission of an annual report specifying the quantity of each of the principal radionuclides released to the environment in liquid and in gaseous effluents during the previous 12 months of operation. The NRC approved the use of the NAC-MPC System in CoC No. 1025 on April 10, 2000. This constituted NRC approval of the conditions for use in storing spent fuel under the general license provisions of § 72.210.

The NRC evaluated the impact to public health and safety that would result from granting the proposed action. The approval of the proposed action would not increase the probability or consequences of accidents, no changes would be made to the types of effluents released offsite, and there would be no increase in occupational or public radiation exposure. Therefore, there are no significant radiological environmental impacts associated with the proposed action. Additionally, the proposed action would not involve any construction or other ground disturbing activities, would not change the footprint of the existing ISFSI, and would have no other significant non-radiological impacts. In this regard, and as the ISFSI is located on previously disturbed land, it is extremely unlikely that approval of the proposed action would create any significant impact on the aquatic or terrestrial habitat near the plant, or to threatened, endangered, or protected species under the Endangered Species Act, or to essential fish habitat covered by the Magnuson-Stevens Act. Similarly, approval of the proposed action is not the type of activity that has the potential to cause effects on historic or cultural properties, assuming such properties are present at the site of the YNPS ISFSI. On this basis, the staff concludes that the proposed exemption does not pose an increased risk to public health and safety and therefore the exemption will not endanger life or property or the common defense and security.

C. The Exemption Is Otherwise in the Public Interest

As noted above, this exemption was previously approved in 2006 and reapproved in 2010. Continuing to apply the exemptions would provide for consistent and efficient regulation of the NAC-MPC System at the YNPS ISFSI. Further, the alternative of denying the exemption request would impose an administrative burden on YAEC and the NRC that would not provide a significant safety benefit. The requested exemption does not change the fundamental design, components, contents, or safety features of the storage system. Therefore, granting the exemption is otherwise in the public interest.

D. Environmental Consideration

The NRC staff also considered in the review of this exemption request whether there would be any significant environmental impacts associated with the exemption. The NRC staff determined that this proposed action fits a category of actions that do not require an environmental assessment or environmental impact statement. Specifically, the exemption meets the categorical exclusion in § 51.22(c)(25).

Granting an exemption from requirements of § 72.212(a)(2), § 72.212(b)(3), § 72.212(b)(5)(i), § 72.212(b)(11), and § 72.214 and from the training program requirement in the TS at Appendix A, Section A.5.1 relieves the licensee only from the requirement to develop training modules under its SAT, that include comprehensive instructions for the operation and maintenance of the ISFSI, except for the NAC-MPC System. A categorical exclusion for education, training, experience, qualification, requalification or other employment suitability requirements is provided under § 51.22(c)(25)(vi)(E) if the criteria in § 51.22(c)(25)(i)-(v) are also satisfied. In its review of the exemption request, the NRC staff determined, as discussed above, that, under §§ 51.22(c)(25)(i)-(v): (i) Granting the exemption does not involve a significant hazards consideration because granting the exemption neither reduces a margin of safety, creates a new or different kind of accident from any accident previously evaluated, nor significantly increases either the probability or consequences of an accident previously evaluated; (ii) granting the exemption would not produce a significant change in either the types or amounts of any effluents that may be released offsite because the requested exemption neither changes the effluents nor produces additional avenues of effluent release; (iii) granting the exemption would not result in a significant increase in either occupational radiation exposure or public radiation exposure because the requested exemption neither introduces new radiological hazards nor increases existing radiological hazards; (iv) granting the exemption would not result in a significant construction impact because there are no construction activities associated with the requested exemption; and (v) granting the exemption would not increase either the potential or consequences from radiological accidents. Accordingly, this exemption meets the criteria for a categorical exclusion in § 51.22(c)(25)(vi)(E).

Granting the exemption from the requirements of § 72.212(a)(2), § 72.212(b)(3), § 72.212(b)(5)(i), § 72.212(b)(11), and § 72.214 and the reporting requirements of Appendix A, Section A.5.4 relieves the licensee only from the requirement to submit an annual report specifying the quantity of each of the principal radionuclides released to the environment in liquid and in gaseous effluents during the previous 12 months of operation, except for the NAC-MPC System. A categorical exclusion for reporting requirements is provided under § 51.22(c)(25)(vi)(B) if the criteria in § 51.22(c)(25)(i)-(v) are also satisfied. In its review of the exemption request, the NRC staff determined, as discussed above, that, under §§ 51.22(c)(25)(i)-(v): (i) Granting the exemption does not involve a significant hazards consideration because granting the exemption neither reduces a margin of safety, creates a new or different kind of accident from any accident previously evaluated, nor significantly increases either the probability or consequences of an accident previously evaluated; (ii) granting the exemption would not produce a significant change in either the types or amounts of any effluents that may be released offsite because the requested exemption neither changes the effluents nor produces additional avenues of effluent release; (iii) granting the exemption would not result in a significant increase in either occupational radiation exposure or public radiation exposure because the requested exemption neither introduces new radiological hazards nor increases existing radiological hazards; (iv) granting the exemption would not result in a significant construction impact because there are no construction activities associated with the requested exemption; and (v) granting the exemption would not increase either the potential or consequences from radiological accidents. Accordingly, this exemption meets the criteria for a categorical exclusion in § 51.22(c)(25)(vi)(B).

IV. Availability of Documents

The documents identified in the following table are available to interested persons through one or more of the following methods, as indicated.

Document | ADAMS accession No.
YAEC Letter to NRC, “Request for Exemption from Certain Requirements of 10 CFR 72.212 and 10 CFR 72.214 for the Yankee Nuclear Power Station Independent Spent Fuel Storage Installation,” May 2, 2019 | ML19176A075.
NRC Letter to NAC, “Amendment Nos. 7 and 8 to Certificate of Compliance No. 1025 for the NAC-Multi Purpose Canister Storage System,” February 5, 2019 | ML19038A256.
NRC Letter to YAEC, “Exemption from 10 CFR 72.212 and 72.214 for Dry Spent Fuel Storage Activities Yankee Atomic Independent Spent Fuel Storage Installation,” June 6, 2006 | ML061570027.
NRC Letter to YAEC, “Exemption from 10 CFR 72.212 and 72.214 for Dry Spent Fuel Storage Activities Yankee Atomic Independent Spent Fuel Storage Installation,” July 15, 2010 | ML102020239.
YAEC Letter to NRC, “Yankee Atomic Electric Company Adoption of NAC-MPC System Amendment 5 Certificate of Compliance and Canister Registration,” July 28, 2011 | ML11216A137.
NRC Letter to CYAPCO, “Issuance of Exemption from NAC International Certificate of Compliance No. 1025 Fuel Specification and Loading Conditions at the Yankee Nuclear Power Station Independent Spent Fuel Storage Installation,” February 18, 2016 | ML16033A150.
NRC Letter to NAC, “Certificate of Compliance for the NAC International, Inc. Multi-Purpose Canister System,” March 17, 2000 | ML003704040.
NRC Letter to NAC, “Amendment No. 3 to Certificate of Compliance No. 1025 for the NAC International, Inc. Multi-Purpose Canister (NAC-MPC) System,” October 8, 2003 | ML032820200.
NRC Letter to NAC, “Amendment No. 4 to Certificate of Compliance No. 1025 for the NAC International, Inc. Multi-Purpose Canister (NAC-MPC) System,” October 27, 2004 | ML043020224.
NRC Letter to NAC, “Amendment No. 5 to Certificate of Compliance No. 1025 for the NAC International, Inc. Multi-Purpose Canister (NAC-MPC) System,” September 19, 2007 | ML072700041.

V. Conclusion

Based on the foregoing considerations, the NRC staff has determined that, pursuant to § 72.7, the exemption is authorized by law, will not endanger life or property or the common defense and security, and is otherwise in the public interest. Therefore, the NRC grants the licensee an exemption from the requirements of § 72.212(a)(2), § 72.212(b)(3), § 72.212(b)(5)(i), § 72.212(b)(11), and § 72.214 only with regard to meeting the requirements of Appendix A, TS A.5.1 and TS A.5.4 of CoC No. 1025.

This exemption is effective upon issuance.

Dated: July 2, 2020.
For the Nuclear Regulatory Commission.
John B. McKirgan,
Chief, Storage and Transportation Licensing Branch, Division of Fuel Management, Office of Nuclear Material Safety, and Safeguards.

[FR Doc. 2020-14651 Filed 7-7-20; 8:45 am]

BILLING CODE 7590-01-P